FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 1, 2015.

A. Federal Reserve Bank of Atlanta (Chapelle Davis, Assistant Vice President) 1000 Peachtree Street NE., Atlanta, Georgia 30309:

1. 4580 Trust (Shveta S. Raju and Asha J. Shah, co-trustees), 3490 Trust (Deep J. Shah and Asha J. Shah, co-trustees); 2764 Trust (Deep J. Shah and Shveta S. Raju, co-trustees); and Deep J. Shah, all of Duluth, Georgia, to join the Shah Family control group, which controls voting shares of Touchmark Bancshares, Inc., and thereby indirectly controls voting shares of Touchmark National Bank, both in Alpharetta, Georgia.

Board of Governors of the Federal Reserve System, September 11, 2015.
Michael J. Lewandowski,
Associate Secretary of the Board.

[FR Doc. 2015-23250 Filed 9-15-15; 8:45 am]

BILLING CODE 6210-01-P